DEPARTMENT OF AGRICULTURE

Agricultural Marketing Service

[Docket No. DA-98-03]

United States Standards for Dry Whey

AGENCY: Agricultural Marketing Service, USDA.

ACTION: Notice.

SUMMARY: The Agricultural Marketing Service (AMS) of the Department of Agriculture (USDA) is soliciting comments on its proposal to change the United States Standards for Dry Whey. AMS is proposing changes that would lower the bacterial estimate of not more than 50,000 per gram to not more than 30,000 per gram, incorporate maximum scorched particle content as a requirement for U.S. grade, and expand the Test Methods section to allow product evaluation using the latest methods included in Standard Methods for Examination of Dairy Products, in the Official Methods of Analysis of the Association of Official Analytical Chemists, and in standards developed by the International Dairy Federation. These changes are being proposed to strengthen the quality requirements of this Standard to reflect improvements that have occurred in dry whey quality since the Standards were last reviewed. AMS is also proposing editorial changes to provide consistency with other dry milk standards. USDA grade standards are voluntary standards. Manufacturers of dairy products are free to choose whether or not to use these voluntary grade standards. USDA grade standards have been developed to identify degrees of quality in various dairy products. Quality in general refers to usefulness, desirability, and value of the product or its marketability as a commodity.

DATES: Comments must be submitted on or before August 21, 2000.

ADDRESSES: Written comments may be submitted to Duane R. Spomer, Chief, Dairy Standardization Branch, Dairy Programs, Agricultural Marketing Service, U.S. Department of Agriculture, Room 2746, South Building, Stop 0230, P.O. Box 96456, Washington, DC 20090-6456; faxed to (202) 720-2643; or e-mailed to Duane.Spomer@usda.gov. Comments should reference the date and page number of this issue of the Federal Register. All comments received will be made available for public inspection at the above address during regular business hours. The current United States Standards for Dry Whey, along with proposed changes, are available either through the above addresses or by accessing AMS” Home Page on the Internet at www.ams.usda.gov/dairy/stand.htm.

FOR FURTHER INFORMATION CONTACT: Duane R. Spomer, Chief, Dairy Standardization Branch, AMS/USDA/Dairy Programs, Room 2746-S, P.O. Box 96956, Washington, DC, 20090-6456, (202) 720-7473.

SUPPLEMENTARY INFORMATION: Section 203 (c) of the Agricultural Marketing Act of 1946, as amended, directs and authorizes the Secretary of Agriculture “to develop and improve standards of quality, condition, quantity, grade, and packaging and to recommend and demonstrate such standards in order to encourage uniformity and consistency in commercial practices * * *”. AMS is committed to carrying out this authority in a manner that facilitates the marketing of agricultural commodities and will make copies of official standards available upon request. The United States Standards for Dry Whey no longer appear in the Code of Federal Regulations but are maintained by USDA/AMS/Dairy Program.

When dry whey is officially graded, the USDA regulations (7 CFR Part 58) governing the grading of manufactured or processed dairy products are used. These regulations require a charge for the grading service provided by USDA. The Agency believes this proposal would accurately identify quality characteristics in dry whey.

AMS is proposing to change the United States Standards for Dry Whey using the procedures that appear in part 36 of title 7 of the Code of Federal Regulations (7 CFR Part 36).

The current United States Standards for Dry Whey have been in effect since October 1, 1990. AMS initiated a review of this Standard and discussed possible changes with the dairy industry. The American Dairy Products Institute, a trade association representing the dry whey industry, provided specific suggestions, including a recommendation to lower the maximum bacterial content.

Proposed by the American Dairy Products Institute

The American Dairy Products Institute provided suggestions to:

• Lower the maximum bacterial content; and

• Reference a color guide to identify the color of dry whey.

Proposed by Dairy Programs, Agricultural Marketing Service

AMS is proposing to:

• Lower the maximum bacterial content requirement as suggested by the American Dairy Products Institute;

• Incorporate scorched particle content in the determination of U.S. grade;

• Reference additional test methods that may be used to determine U.S. grade;

• Reference the Food and Drug Administration's requirements for dry whey; and

• Make editorial changes that would provide consistency with other U.S. grade standards for dairy products.

Concerning the suggestion by the American Dairy Products Association to reference a color guide, AMS agrees that color is an important attribute in the marketing of dry whey. However, since color is not a grade-determining factor, AMS is recommending that a color identification guide be considered separately from the standard in a manner consistent with color determination in other dairy products.

This notice provides for a 60-day comment period for interested parties to comment on proposed revisions to the standards. The following is an outline of these changes.

United States Standards for Dry Whey¹
Current standard | Proposed | Discussion
Definitions | No change | N/A.
Whey | No change | N/A.
“Whey is the fluid obtained by separating the coagulum from milk, cream, and/or skim milk in cheesemaking | No change | N/A.
| It shall conform to the applicable provisions of 21 CFR 184.1979 | We propose to include a reference to the Food and Drug Administration regulations concerning this product.
The acidity of the whey may be adjusted by the addition of safe and suitable pH adjusting ingredients. Mositure removed from cheese curd as a result of salting may be collected for further processing as whey if the collection of the moisture and the removal of the salt from the moisture are conducted in accordance with procedures approved by the Administrator | No change | N/A.
Dry Whey | No change | N/A.
“Dry Whey” is the product resulting from drying fresh whey which has been pasteurized and to which nothing has been added as a preservative. | “Dry Whey” is the product resulting from drying fresh whey which has been pasteurized and to which nothing has been added as a preservative. It shall conform to the applicable provisions of 21 CFR 184.1979 | We propose to include a reference to the Food and Drug Administration regulations concerning this product.
It contains all constituents, except moisture, in the same relative proportions as in the whey | No change | N/A.
U.S. Grade Nomenclature of U.S. grade. The nomenclature of the U.S. grade is U.S. Extra Grade | No change | N/A.
Basis for determination of U.S. grade | No change | N/A.
The U.S. grade of dry whey is determined on the basis of flavor, physical appearance, bacterial estimate, coliform, milkfat content, and moisture | No change | N/A.
| Coliform count, milk fat content, moisture and scorched particle content | We propose to include count following coliform to be consistent with other dairy products standards. We propose to relocate the requirement for scorched particle content from the “Optional tests” section of this standard and include it as a required test for assignment of U.S. grade. Test methods have improved so that consistently accurate results are now attainable.
Requirements for U.S. grade | No change | N/A.
(a) U.S. Extra. U.S. Extra Grade dry whey conforms to the following requirements: | No change | N/A.
(1) Flavor. (applies to the reliquefied form). Shall have a normal whey flavor free from undesirable flavors, but may possess the following flavors to a | (1) Flavor. Reconstituted whey shall have a normal whey flavor free from undesirable flavors, but may possess the following flavors to a slight degree: Bitter, fermented, storage, and utensil; and the following to a definite degree: feed and | We propose to change “reliquefied” to “reconstituted” to more accurately describe the process of converting dry whey to a liquid product. We propose to provide a Table 1 that includes the allowed flavors and their
(2) Physical appearance | No change | N/A.
Has a uniform color, and is free flowing, free from lumps that do not break up under slight pressure, and is practically free from visible dark particles | Dry whey shall possess uniform color. It shall be reasonably free flowing, be free from lumps except those that readily break up with slight pressure and be practically free from visible dark particles. See Table II of this section | We propose changes that would provide consistency with other dairy products standards and more clearly describe product meeting this grade requirement. We also propose to provide a Table II that includes the allowed physical appearance attributes and their intensities. This would allow the reader to quickly identify physical appearance characteristics and intensities included in this standard.
(3) Bacterial estimate. Not more than 50,000 per gram standard plate count | (3) Bacterial estimate. Not more than 30,000 per gram standard plate count. See table III of this section | We propose to reduce the bacterial estimate from not more than 50,000 per gram to not more than 30,000 per gram to reflect improvements in the quality of dry whey currently produced. We also propose to provide a Table III that includes information concerning microbiological and compositional requirements. This would allow the reader to quickly identify microbiological, compositional, and scorched particle requirements.
(4) Coliform. Not more than 10 per gram | (4) Coliform count not more than 10 per gram. See table III of this section | We propose to include count following coliform to be consistent with other dairy products Standards. We also propose to provide a Table III that includes information concerning microbiological and compositional requirements. This would allow the reader to quickly identify microbiological, compositional, and scorched particle requirements.
(5) Milkfat content. Not more than 1.50 percent | (5) Milkfat content. Not more than 1.50 percent. See T able III of this section | We propose to provide a Table III that includes information concerning microbiological and compositional requirements. This would allow the reader to quickly identify microbiological, compositional, and scorched particle requirements.
(6) Moisture content. Not more than 5.0 percent | (6) Moisture content. Not more than 5.0 percent. See table III of this section | We propose to provide a Table III that includes information concerning microbiological and compositional requirements. This would allow the reader to quickly identify microbiological, compositional, and scorched particle requirements.
| (7) Scorched particles content. Not more than 15.0 mg. See table III of this section | We propose to relocate the requirement for scorched particle content from the “Optional tests” section of this standard and include it as a required test for assignment of U.S. Grade. Test methods have improved so that consistently accurate results are now attainable. We also propose to provide a Table III that includes information concerning microbiological and compositional requirements. This would allow the reader to quickly identify microbiological, compositional, and scorched particle requirements.
| Table 1.—Classification of Flavor Flavor Characteristics—U.S. Extra Grade Bitter—Slight Feed—Definite Fermented—Slight Storage—Slight Utensil—Slight Weedy—Definite | We proposed to provide a Table I that includes the allowed flavors and their intensities. This would allow the reader to quickly identify flavor characteristics and intensities included in this standard.
| Table II.—Classification of Physical Appearance Physical Appearance Characteristics—U.S. Extra Grade Color—Uniform Free flowing—Reasonably Lumpy—Slight pressure Visible dark particles—Practically free | We proposed to provide a Table II that includes the allowed physical appearance attributes. This would allow the reader to quickly identify physical appearance characteristics and intensities included in this standard.
| Table III.—Classification According to Laboratory Analysis Laboratory tests—U.S. Extra Grade Bacterial estimate; Standard plate count; per gram (max)—30,000 Coliform count; per gram (max)—10 Milkfat content; percent (max)—1.5 Moisture content; percent (max)—5.0 Scorched particle content mg (max)—15.0 | We propose to provide a Table III that includes information concerning microbial, compositional, and scorched particle requirements. This would allow the reader to quickly identify microbial, compositional, and scorched particle requirements included in this standard.
Basis for acidity classification | No change | N/A.
Acidity classification is not a U.S. grade requirement. Acidity classification will be made available only upon U.S. graded product and the results will be shown on the grading certificate | No change | N/A.
The dry whey will be classified for acidity as follows:
(a) Dry sweet-type whey. Dry whey not over 0.16 percent titratable acidity on a reconstituted basis | No change | N/A.
(b) Dry whey % titratable acidity. Dry whey over 0.16 percent, but below 0.35 percent titratable acidity on a reconstituted basis. The blank being filled with the actual acidity | No change | N/A.
(c) Dry acid-type whey. Dry whey with 0.35 percent or higher titratable acidity on a reconstituted basis | No change | N/A.
Reserved | No change | N/A.
Optional tests | No change | N/A.
There are certain optional requirements in addition to those specified in section, § 58.2605 | There are certain optional requirements in addition to those required for U.S. Grade assignment | When U.S. Grade Standards were removed from the Code of Federal Regulations, it was no longer appropriate to reference particular sections of the Code. We proposed to modify this sentence accordingly.
Tests for these requirements may be run occasionally at the option of the Department and will be run whenever they are requested by an interested party | No change | N/A.
These optional requirements are as follows:
(a) Protein content (N × 6.38). Not less than 11 percent | No change | N/A.
(b) Alkalinity of ash (sweet-type whey only). Not more than 225 ml. of 0.1N HCI per 100 grams | No change | N/A.
(c) Scorched particle content. Not more than 15.0 mg | Relocated | We propose to relocate the requirement for scorched particle content from the “Optional Tests” section of this standard and include it as a required test for assignment of U.S. Grade. Test methods have improved so that consistently accurate results are now attainable.
U.S. grade not assignable | No change | N/A.
| Dry whey shall not be assigned the U.S. grade for one or more of the following reasons: | We propose to provide a preamble to this section that is consistent with other dairy product standards.
(a) Dry whey which fails to meet the requirements of U.S. Extra Grade shall not be assigned a U.S. grade | (a) The dry whey fails to meet the requirements of U.S. Extra Grade | We propose editorial changes to provide consistency with other dairy product standards.
(b) Dry whey which fails to meet the requirements of any optional test, when tests have been made, shall not be assigned a U.S. grade | (b) The dry whey fails to meet the requirements of any optional test, when tests have been made | We propose editorial changes to provide consistency with other dairy product standards.
(c) Dry whey produced in a plant found on inspection to be using unsatisfactory manufacturing practice, equipment, or facilities or to be operating under unsanitary plant conditions shall not be assigned a U.S. grade | (c) The dry whey is produced in a plant found on inspection to be using unsatisfactory manufacturing practice, equipment, or facilities, or to be operating under unsanitary plant conditions | We propose editorial changes to provide consistency with other dairy product standards.
Test Methods | No change | N/A.
All required tests, and optional tests when specified, shall be performed in accordance with the following methods: | No change | N/A.
(a) “Methods of laboratory Analysis,” DA instruction series 918-103-2, 918-103-5, 918-109-2, and 918-109-3, Dairy Grading Branch, Poultry and Dairy Quality Division, Agricultural Marketing Service, U.S. Department of Agriculture, Washington, DC 20250, or the latest revision thereof | (a) Scorched particle content shall be determined by the method contained in the latest revision of 918-RL, Laboratory Methods and Procedures, USDA/AMS/Dairy Programs, Dairy Grading Branch, Room 2746-S, 14th and Independence Ave. SW., Washington, DC 20250-0230 | We propose to limit the use of USDA specific test methods contained in 918-RL to the evaluation of scorched particle content only. This is necessary because a test method for scorched particles is not provided by the Association of Official Analytical Chemists, the Standard Methods for the Examination of Dairy Products, or the International Dairy Federation. We also propose to identify three sources of test methods that can be used to analyze dry whey for determination of U.S. grade. Reference to these sources will eliminate the need for USDA to maintain a separate document to provide this test method information.
| (b) All other tests shall be performed by the methods contained in the latest edition of the “Official Methods of Analysis of the Association of Official Analytical Chemists”, published by the Association of Official Analytical Chemists International, 481 North Frederick Avenue, Suite 500, Gaithersburg, MD 20877-2504; by the methods provided in the latest edition of the “Standard Methods for the Examination of Dairy. |
Explanation of Terms | No change | N/A.
Explanation of Terms | No change | N/A.
With respect to flavor.—(1) Slight | No change | N/A.
An attribute barely identifiable and present only to a small degree | Detectable only upon critical examination | We propose to change the wording to provide consistency with other U.S. Grade Standards for dry milk products.
(2) Definite. An attribute readily identifiable and present to a substantial degree | (2) Definite. Not intense but detectable. | We propose to change the wording to provide consistency with other U.S. Grade Standards for dry milk products.
(3) Undesirable. Identifiable flavors | (3) Undesirable. those flavors. | We propose to change the wording to provide consistency with other U.S. Grade Standards for dry milk products.
in excess of the intensity permitted, or those flavors not otherwise listed | No change | N/A.
(4) Bitter. Distasteful, similar to taste of quinine | No change | N/A.
(5) Feed. Feed flavors such as alfalfa, sweet clover, silage, or similar feed | (5) Feed. Feed flavors (such as alfalfa, sweet clover, silage, or similar feed) in milk carried through into dry whey | We propose to change the wording to provide consistency with other U.S. Grade Standards for dry milk products.
(6) Fermented. Flavors such as fruity or yeasty, produced through unwanted chemical changes brought about by microorganisms or their enzyme systems | No change | N/A.
(7) Storage. Lacking in freshness and imparting a “rough” or “harsh” aftertaste | (7) Storage. Lacking in freshness and imparting a “stale” aftertaste | We propose to change the wording to provide consistency with other U.S. Grade Standards for dry milk products.
(8) Utensil. A flavor that is suggestive of improper or inadequate washing and | No change | N/A
sterilization of utensils or factory equipment | sanitation of utensils or manufacturing equipment | We propose to change the wording to provide consistency with other U.S. Grade Standards for dry milk products.
(9) Weedy. Aromatic flavor characteristic of the weeds eaten by cows carried through into the dry whey | No change | N/A.
(b) With respect to physical appearance: (1) Slight pressure. Only sufficient pressure to readily disintegrate the lumps | No change | N/A.
(2) Practically free. Present only upon very critical examination | No change | N/A.
(3) Free flowing. Capable of being poured continuously without interruption | (3) Reasonably free flowing. Pours in a fairly constant, uniform stream from the open end of a tilted container or scoop | We propose to change the wording to provide consistency with other U.S. Grade Standards for dry milk products.
(4) Lumps. Loss of powdery consistency but not caked into hard chunks | No change | N/A.
(5) Uniform color. Free from variation in shades or color | No change | N/A.
(6) Visible dark particles. The presence of scorched or discolored specks capable of being seen by the eye | (6) Visible dark particles. The presence of scorched or discolored specks readily visible to the eye | We propose to change the wording to provide consistency with other U.S. Grade Standards for dry milk products.
¹ Compliance with these standards does not excuse failure to comply with the provisions of the Federal Food, Drug and Cosmetic Act.

Authority: 7 U.S.C. 1621-1627.

Dated: June 13, 2000.
Kathleen A. Merrigan,
Administrator, Agricultural Marketing Service.

[FR Doc. 00-15446 Filed 6-19-00; 8:45 am]

BILLING CODE 3410-02-P